DEPARTMENT OF HOUSING AND URBAN DEVELOPMENT

[Docket No. FR-5041-N-42]

Notice of Proposed Information Collection: Comment Request; HUD-Owned Real Estate—Good Neighbor Next Door Sales Program

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: January 2, 2007.

ADDRESSES: Interested persons are invited to submit comments regarding this proposal. Comments should refer to the proposal by name and/or OMB Control Number and should be sent to: Lillian Deitzer, Departmental Reports Management Officer, Department of Housing and Urban Development, 451 7th Street, SW., Washington, DC 20410 or Lillian_L._ Deitzer@hud.gov.

FOR FURTHER INFORMATION CONTACT: Laurie Maggiano, Acting Director, Office of Single Family Asset Management, Department of Housing and Urban Development, 451 7th Street, SW., Washington, DC 20410, telephone (202) 708-1672 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: HUD-Owned Real Estate—Good Neighbor Next Door Sales Program.

OMB Control Number, if applicable: 2502-NEW.

Description of the need for the information and proposed use: This collection was formerly part of a collection titled Single Family Housing Property Disposition and Acquisition (Conveyance) of Mortgaged Properties. HUD published a Federal Register notice soliciting public comments on April 17, 2006 (Vol. 71, No. 73, pages 19746-19746). No comments were received. Since that publication, however, the information collection request for the Good Neighbor Next Door Sales Program has been disaggregated. This revision now presents only documents related to the Good Neighbor Next Door Sales Program.

Agency form numbers, if applicable: HUD-9548-A, HUD-9549, HUD 9549-A, HUD 9549-B, HUD 9549-C, HUD 9549-D, 9549-E.

Estimation of the total numbers of hours needed to prepare the information collection including number of respondents, frequency of response, and hours of response: The estimated number of burden hours needed to prepare the information collection is 1,249 hours; the number of respondents is approximately 13,136, generating approximately 20,282 annual responses; the frequency of response is “on occasion”; and the estimated time needed to prepare the response varies from 2 minutes to 30 minutes per response.

Status of the proposed information collection: This is a request for a new collection to disaggregate only those information collection requirements of the Good Neighbor Next Door Sales Program.

Authority: The Paperwork Reduction Act of 1995, 44 U.S.C., Chapter 35, as amended.

Dated: October 26, 2006.
Frank L. Davis,
General Deputy Assistant Secretary for Housing—Deputy Federal Housing Commissioner.

[FR Doc. E6-18434 Filed 11-1-06; 8:45 am]

BILLING CODE 4210-67-P